ENVIRONMENTAL PROTECTION AGENCY

[OPPT-2002-0039; FRL-7356-4]

Four Purchasing Guides; Notice of Review and Comment Period

AGENCY: Environmental Protection Agency (EPA).

ACTION: Notice.

SUMMARY: EPA's Environmentally Preferable Purchasing (EPP) program is announcing the posting and public review of four draft EPP guides on EPA's electronic public docket and comment system, EPA Dockets. This is part of an effort to implement Presidential Executive Order 13101, “Greening the Government Through Waste Prevention, Recycling and Federal Acquisition.” EPA's EPP Program operates in a transparent manner, with open participation and counsel from our stakeholders. In today's notice, EPA is announcing an open review of the four purchasing guides that can provide information to Federal procurement officials in making EPP decisions that can help protect human health and the environment.

DATES: Comments, identified by docket ID number OPPT-2002-0039, must be received on or before August 30, 2004.

ADDRESSES: Comments may be submitted electronically, by mail, or through hand delivery/courier. Follow the detailed instructions as provided in Unit I. of the SUPPLEMENTARY INFORMATION.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Terry Grogan, Pollution Prevention Division (7409M), Office of Pollution Prevention and Toxics, Environmental Protection Agency, 1200 Pennsylvania Ave., NW., Washington, DC 20460; telephone number: (202) 564-6317; e-mail address: grogan.terry@epa.gov.

SUPPLEMENTARY INFORMATION:

I. General Information

A. Does this Action Apply to Me?

This action is directed to the public in general. This action may, however, be of interest to Federal purchasers affected by Executive Order 13101. This action may also be of interest to: State and local government and private procurement officials interested in environmentally preferable products, and persons or organizations interested in the aforementioned product categories. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established an official public docket for this action under docket identification (ID) number OPPT-2002-0039. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in the EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPPT-2002-0039. The system is an “anonymous access” system, which means EPA will not know your identity, e-mail address, or other contact information unless you provide it in the body of your comment.

ii. E-mail. Comments may be sent by e-mail to oppt.ncic@epa.gov, Attention: Docket ID number OPPT-2002-0039. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO), EPA East Building, Rm. 6428, 1201 Constitution Ave., NW., Washington, DC. Attention: Docket ID number OPPT-2002-0039. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

We invite you to provide your views on the various options we propose, new approaches we have not considered, the potential impacts of the various options (including possible unintended consequences), and any data or information that you would like the Agency to consider during the development of the final action. Provide copies of any technical information and/or data you used that support your views.

In particular, EPA would like comments to address the following questions:

1. Is the discussion on the potential environmental impacts of the product categories useful for Federal purchasers?

2. Is there any more recent information that is germane to or would enhance the discussion of these product categories?

3. Can Federal purchasers act easily upon the stated recommendations in the product guides?

4. Is this an approach you would like EPA to take in addressing EPP?

II. Background

A. What Action is the Agency Taking?

EPA is initiating an open process to allow stakeholders to review and comment on the four draft EPP product guides. The four product guides now available for review are:

1. “Greening Your Purchase of Carpet: A Guide For Federal Purchasers.”

2. “Greening Your Purchase of Cleaning Products: A Guide For Federal Purchasers.”

3. “Greening Your Purchase of Copiers: A Guide For Federal Purchasers.”

4. “Greening Your Meetings and Conferences: A Guide For Federal Purchasers.”

The EPP program does not endorse products nor does it recommend for or against the purchase of specific products. EPP seeks to provide information on products with the overall best value, taking into account price competitiveness, regulatory requirements, performance standards, and environmental impact. Because purchasers typically have readily available sources of information on procurement and safety regulations and well-established methods for evaluating price and performance, EPA's EPP program has developed these purchasing guides to help government purchasers consider the environmental factors in the purchasing process. EPA's EPP program is committed to reviewing and updating information contained within the purchasing guides when new information becomes available.

B. What is the Agency's Authority for Taking this Action?

Spending approximately $230 billion annually on a large quantity and wide variety of products and services, the Federal government leaves a large environmental “footprint.” However, by purchasing environmentally preferable products and services, the Federal government can use its purchasing power to increase national demand for greener products as well as to help meet environmental goals through markets rather than mandates. In 1995, in response to Executive Order 12873, EPA established the EPP program to encourage and assist Executive agencies in the purchase of environmentally preferable products and services. In 1997, the Federal Acquisition Regulation (FAR), which establishes uniform procedures and policies for Federal acquisition, was amended to support Federal procurement of “green” products and services. And, most recently, in 1998, Executive Order 13101, titled “Greening the Government through Waste Prevention, Recycling, and Federal Acquisition,” directed Executive agencies to “consider . . . a broad range of factors including: elimination of virgin material requirements; use of biobased products; use of recovered materials; reuse of product; life cycle cost; recyclability; use of environmentally preferable products; waste prevention (including toxicity reduction or elimination); and ultimate disposal” when making purchasing decisions and to “modify their procurement programs as appropriate.”

Similarly, the Biomass R & D Act of 2000, the Farm Bill of 2002, and Executive Order 13134 emphasize the potential importance of biobased products to national economic and environmental interests. Together these authorities encourage a strong Federal role in the development and early adoption of biobased products and recognize the role of procurement as part of an overall Federal policy on biobased products.

List of Subjects

Environmental protection, Procurement guidelines, Environmentally preferable purchasing product guides, Federal procurement, Environmentally preferable purchasing.
Dated: June 23, 2004.
Susan B. Hazen,
Assistant Administrator, Office of Prevention, Pesticides and Toxic Substances.

[FR Doc. 04-14831 Filed 6-29-04; 8:45 am]

BILLING CODE 6560-50-S